DEPARTMENT OF HEALTH AND HUMAN SERVICES

National Institutes of Health

National Eye Institute; Amended Notice of Meeting

Notice is hereby given of a change in the meeting of the National Eye Institute Special Emphasis Panel, March 19, 2020, 9:30 a.m. to March 19, 2020, 4:00 p.m., Hilton Garden Inn Bethesda, 7301 Waverly Street, Bethesda, MD 20814 which was published in the Federal Registar on January 30, 2020, 85 FR 5458.

This meeting notice is being amended to change the format from a face-to-face meeting to a videoconference. The meeting is closed to the public.

Dated: March 13, 2020.
Melanie J. Pantoja,
Program Analyst, Office of Federal Advisory Committee Policy.

[FR Doc. 2020-05695 Filed 3-18-20; 8:45 am]

BILLING CODE 4140-01-P